DEPARTMENT OF HEALTH AND HUMAN SERVICES

National Institutes of Health

Center for Scientific Review; Amended Notice of Meeting

Notice is hereby given of a change in the meeting of the Center for Scientific Review Special Emphasis Panel, June 27, 2005, 8:30 a.m. to June 28, 2005, 4 p.m., The River Inn, 924 25th Street, NW., Washington, DC 20037 which was published in the Federal Register on May 26, 2005, 70 FR 30475-30477.

The meeting will be held July 18, 2005 to July 19, 2005. The meeting time and location remain the same. The meeting is closed to the public.

Dated: June 28, 2005.
LaVerne Y. Stringfield,
Director, Office of Federal Advisory Committee Policy.

[FR Doc. 05-13453 Filed 7-7-05; 8:45 am]

BILLING CODE 4140-01-M